INTERNATIONAL TRADE COMMISSION

[Investigation No. 731-TA-1143 (Review)]

Small Diameter Graphite Electrodes From China

Determination

On the basis of the record ¹ developed in the subject five-year review, the United States International Trade Commission (Commission) determines, pursuant to section 751(c) of the Tariff Act of 1930 (19 U.S.C. 1675(c)), that revocation of the antidumping duty order on small diameter graphite electrodes from China would be likely to lead to continuation or recurrence of material injury to an industry in the United States within a reasonably foreseeable time.²

¹ The record is defined in sec. 207.2(f) of the Commission's Rules of Practice and Procedure (19 CFR § 207.2(f)).

² Commissioner Rhonda K. Schmidtlein not participating.

Background

The Commission instituted this review on January 2, 2014 (79 FR 145) and determined on April 7, 2014 that it would conduct an expedited review (79 FR 22531, April 22, 2014). The Commission completed and filed its determination in this review on June 2, 2014. The views of the Commission are contained in USITC Publication 4469, June 2014, entitled Small Diameter Graphite Electrodes from China (Inv. No. 731-TA-1143 (Review)).

By order of the Commission.
Issued: June 3, 2014
Lisa R. Barton,
Secretary to the Commission.

[FR Doc. 2014-13174 Filed 6-5-14; 8:45 am]

BILLING CODE 7020-02-P